DEPARTMENT OF COMMERCE

National Oceanic and Atmospheric Administration

RIN 0648-XC218

Marine Mammals; File No. 17298

AGENCY: National Marine Fisheries Service (NMFS), National Oceanic and Atmospheric Administration (NOAA), Commerce.

ACTION: Notice; receipt of application.

SUMMARY: Notice is hereby given that Mystic Aquarium, Mystic, Connecticut 06355 [Responsible Party: Stephen Coan], has applied in due form for a permit to collect, import, export, and receive marine mammal parts for scientific research.

DATES: Written, telefaxed, or email comments must be received on or before November 1, 2012.

ADDRESSES: The application and related documents are available for review by selecting “Records Open for Public Comment” from the Features box on the Applications and Permits for Protected Species (APPS) home page, https://apps.nmfs.noaa.gov, and then selecting File No. 17298 from the list of available applications.

These documents are also available upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The objective of this application is to support multiple ongoing research programs at the Mystic Aquarium, including studies of diet and nutrition, disease, immune function, environmental stressors, toxicology and health of marine mammals. Mystic Aquarium requests the annual collection, receipt, import and export of samples from 5,000 individual cetaceans and 5,000 individual pinnipeds under NMFS jurisdiction for continued research on these species. Please refer to the following Web site for the list of species: https://apps.nmfs.noaa.gov/docs_cfm/species_lists.cfm. The applicant is requesting samples of marine mammals legally taken in the countries of origin that are the product of a legal subsistence hunt, incidental by-catch, routine husbandry/medical examinations of legally held captive animals, stranded animals in foreign countries, and samples taken under other permitted research activities. No takes of live animals, direct or indirect, are requested in this application. Mystic Aquarium requests the permit be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 25, 2012.
P. Michael Payne,
Chief, Permits and Conservation Division, Office of Protected Resources, National Marine Fisheries Service.

[FR Doc. 2012-24206 Filed 10-1-12; 8:45 am]

BILLING CODE 3510-22-P